NUCLEAR REGULATORY COMMISSION

[Docket Nos. 50-250 and 50-251]

Florida Power and Light Company; Turkey Point Nuclear Plant, Unit Nos. 3 and 4 Environmental Assessment and Finding of No Significant Impact

The U.S. Nuclear Regulatory Commission (NRC) is considering issuance of an exemption from Title 10 of the Code of Federal Regulations (10 CFR) part 50, Appendix R, Subsection III.G.3, for Facility Operating License Nos. DPR-31 and DPR-41, issued to Florida Power and Light Company (the licensee), for operation of the Turkey Point Nuclear Plant, Units 3 and 4, respectively, located in Miami-Dade County, approximately 25 miles south of Miami, Florida. Therefore, as required by 10 CFR 51.21, the NRC is issuing this environmental assessment and finding of no significant impact.

Environmental Assessment

Identification of the Proposed Action

The proposed action would exempt the licensee from the requirements of 10 CFR part 50, Appendix R, Subsection III.G.3 for fixed suppression in the Mechanical Equipment Room and for detection and fixed suppression in the subsection of the Control Building that contains the Control Room Roof at the Turkey Point Nuclear Plant.

The proposed action is in accordance with the licensee's application dated December 27, 2004, as supplemented by letters dated May 23, 2005, January 13, 2006, and July 12, 2006.

The Need for the Proposed Action

Fire protection features for assuring alternative or dedicated shutdown capability in the event of a fire are addressed in 10 CFR, part 50, Appendix R, Subsection III.G.3, which requires that fire detection and a fixed fire suppression system be installed in the area, room, or zone where equipment or components are relied on for the assured shutdown capability.

The NRC approved the alternate shutdown capability proposed by the licensee for Turkey Point, Units 3 and 4, for compliance with the requirements of III.G.3, in a safety evaluation dated April 16, 1984. The Control Room was one of the areas approved. However, the Mechanical Equipment Room and Control Room Roof, which are identified in the plant fire protection program report as part of the Control Room fire area, were not included. In February 2004, during an NRC triennial fire inspection at Turkey Point, the inspection team reviewed fire protection systems, features, and equipment, and found that all fire zones supporting the alternate safe shutdown function for the Control Room do not provide fire detection and a fixed suppression system in accordance with the requirements of III.G.3, for both Turkey Point units. Specifically, the Mechanical Equipment Room does not have full area detection and fixed suppression. In response to this inspection finding, the licensee declared the detection and suppression inoperable for the Mechanical Equipment Room (and the Control Room Roof, which also fails to provide detection and fixed suppression) and established an hourly fire watch. The licensee proposed to install a fire detection system in the Mechanical Equipment Room and requested exemption from the requirements for fixed suppression in the Mechanical Equipment Room and for detection and fixed suppression on the Control Room Roof. The proposed action would restore system operability and eliminate the need to institute compensatory measures.

Environmental Impacts of the Proposed Action

The NRC has completed its safety evaluation of the proposed action and concludes that, based on the existing fire protection features, the proposed installation of new detection equipment in the Mechanical Equipment Room, low combustible loading, existing administrative controls for combustibles, and availability of nearby suppression equipment, there is reasonable assurance of adequate suppression capability in the affected fire zones. Also, in the event of a fire-induced failure of safety-related equipment resulting in a loss of Control Room heating, ventilation and air conditioning equipment, there is reasonable assurance that there would be adequate time to evacuate the Control Room, if necessary, and shut down the plant from the Alternate Shutdown Panel. Therefore, assurance of alternative or dedicated shutdown capability in the event of a fire is achieved.

The proposed action is contingent upon installation of new area fire detection equipment in the Mechanical Equipment Room, maintaining existing or comparable separation and protection for redundant safe shutdown equipment on the Control Room Roof, the availability of manual fire fighting and associated fire fighting equipment, and maintaining existing or comparable administrative controls for combustibles. The details of the staff's safety evaluation will be provided in the exemption that will be issued as part of the letter to the licensee approving the exemption to the regulation.

The proposed action will not significantly increase the probability or consequences of accidents because the exemption is based on the existing fire barriers at Turkey Point, fire protection measures, availability of nearby suppression equipment, low combustible loading, existing administrative controls for combustibles, and installation of new fire detection equipment in the Mechanical Equipment Room. No new accident precursors are created by the proposed exemption and the consequences of postulated accidents are not increased. No changes are being made in the types of effluents that may be released off site. There is no significant increase in the amount of any effluent released off site. There is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for Turkey Point Units 3 and 4, dated January 1972, and Final Supplemental Environmental Impact Statement (NUREG-1437 Supplement 5) dated January 2002.

Agencies and Persons Consulted

In accordance with its stated policy, on August 7, 2006, the staff consulted with the Florida State official, William Passetti of the Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 27, 2004, as supplemented by letters dated May 23, 2005, January 13, 2006, and July 12, 2006. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr@nrc.gov.

Dated at Rockville, Maryland, this 20th day of September 2006.
For the Nuclear Regulatory Commission.
Brendan T. Moroney,
Project Manager, Plant Licensing Branch II-2, Division of Operating Reactor Licensing, Office of Nuclear Reactor Regulation.

[FR Doc. 06-8220 Filed 9-25-06; 8:45 am]

BILLING CODE 7590-01-P